ENVIRONMENTAL PROTECTION AGENCY

[FRL-7020-6]

Notice of Prevention of Significant Deterioration (PSD) Final Determination for Zion Energy LLC, City of Zion, Lake County, IL

AGENCY: Environmental Protection Agency (EPA).

ACTION: Notice of final action.

SUMMARY: This document announces that on March 27, 2001, the Environmental Appeals Board (EAB) of the United States EPA dismissed a petition for review of a permit issued for Zion Energy by the Illinois Environmental Protection Agency (Illinois EPA) pursuant to EPA's Prevention of Significant Deterioration of Air Quality (PSD) regulations.

DATES: The effective date for the EAB's decision is March 27, 2001. Judicial review of this permit decision, to the extent it is available pursuant to section 307(b)(1) of the Clean Air Act, may be sought by filing a petition for review in the United States Court of Appeals for the Seventh Circuit within 60 days of July 30, 2001.

ADDRESSES: The documents relevant to the above action are available for public inspection during normal business hours at the following address: Environmental Protection Agency, Region 5, 77 West Jackson Boulevard (AR-18J), Chicago, Illinois 60604. To arrange viewing of these documents, call Jorge Acevedo at (312) 886-2263.

FOR FURTHER INFORMATION CONTACT: Jorge Acevedo, United States Environmental Protection Agency, Region 5, 77 W. Jackson Boulevard (AR-18J), Chicago, Illinois 60604. Anyone who wishes to review the EAB decision can obtain it at http://www.epa.gov/eab/disk11/zion.pdf.

SUPPLEMENTARY INFORMATION: This supplemental information is organized as follows:

A. What Action is EPA Taking?

B. What is the Background Information?

C. What did the EAB Determine?

A. What Action Is EPA Taking?

We are notifying the public of a final decision by EPA's EAB on a permit issued by Illinois EPA pursuant to the PSD regulations found at 40 CFR 52.21.

B. What Is the Background Information?

On December 8, 2000, Illinois EPA issued PSD permit 99110042 to Zion Energy LLC (Zion) for the construction of a new electric power generating facility with a capacity of 800 megawatts. The proposed facility consists of five simple-cycle combustion turbines that operate on natural gas as a primary fuel and distillate oil as a back-up fuel. The project also consists of five auxiliary boilers, two fuel heaters, and a fuel storage tank. The facility is subject to PSD for nitrogen oxides ( NOX), Carbon Monoxide (CO), Sulfur Dioxide (SO2), and Particulate Matter (PM/PM10).

On January 5, 2001, Susan Zingle, on her own behalf and as executive director of the Lake County Conservation Alliance (LCCA), and the LCCA petitioned the EAB to review this permit. The petitioner alleged: (i) The facility is a major source of hazardous air pollutants (HAPs) and is subject to Maximum Available Control Technology (MACT) requirements, specifically the potential to emit HAPs is higher than reflected in the permit and the permit does not effectively cap HAP emissions, (ii) the permit should contain a provision requiring compliance with State noise regulations, (iii) Illinois' “ NOX waiver” should be lifted and the facility treated as major for NOX, (iv) the permit incorrectly identified the proposed simple-cycle combustion turbines as “peaking units,” (v) Illinois EPA's best available control technology (BACT) analysis was erroneous for several reasons including, Illinois EPA failed to consider certain control technologies such as combined cycle operation with catalytic controls, catalytic controls were rejected, and Illinois EPA should have considered alternative locations for the facility due to consideration of water availability, the analysis should have included an evaluation of need, energy conservation, demand side management and other alternatives to construction of the facility, Illinois EPA should have considered the use of alternative turbine configurations, the use of low NOX burners for the fuel heaters and auxiliary boilers does not constitute BACT, the permit's provision for the operation of auxiliary boilers does not constitute BACT, good combustion practices were not sufficiently defined and are not BACT for CO and PM, Illinois failed to require the development of operation and maintenance procedures as part of the BACT analysis, and the use of diesel fuel does not constitute BACT, (vi) the permit failed to properly account for emissions during startup and shutdown of the facility, and failed to limit the number of startups, (vii) emissions limits were based on unsubstantiated assumptions regarding facility operation, (viii) the permit should specify what constitutes good air pollution control practices, (ix) the permit fails to require compliance with requirements for a major source of volatile organic compounds (VOCs) in a non-attainment area for ozone, (x) the permit's monitoring requirements were inadequate for reasons such as the 180 day period of operation prior to shakedown and emission testing should be shortened, testing for particulate matter should use method 202, testing for VOCs should use method 18 rather than 25a, (xi) emissions from facilities under common control should have been included in calculating the potential to emit, and (xii) a complete copy of the draft permit was not made available at the Waukegan Public Library or on the internet.

On January 29, 2001, Illinois EPA filed a Motion for Summary Disposition with the EAB. Illinois EPA asserted that LCCA failed to satisfy the requirements for review under 40 CFR 124.19, and the petition should be dismissed. Zion also filed a response and also asserted that LCCA failed to satisfy the requirements for review under 40 CFR 124.19. On March 2, 2001 LCCA filed a motion seeking leave to respond to Illinois EPA's Motion and to supplement the petition with comments to Illinois EPA's responsiveness summary.

C. What Did the EAB Determine?

On March 27, 2001, the EAB denied the petition for review based on the grounds that the petitioner failed to satisfy the requirements for obtaining review under 40 CFR 124.19. Specifically, the petitioner reiterated comments previously submitted to Illinois EPA during the comment period without indicating why Illinois EPA's responses to these comments were erroneous. The EAB also denied the supplement to the petition based on the fact that accepting the supplement would expand the petitioner's appeal rights under the regulations in 40 CFR 124.19.

Dated: July 13, 2001.
Gary Gulezian,
Acting Regional Administrator, Region 5.

[FR Doc. 01-18883 Filed 7-27-01; 8:45 am]

BILLING CODE 6560-50-P